DEPARTMENT OF THE INTERIOR

Bureau of Indian Affairs

[AAK4004200/A0R5C4040.999900/134A2100DD]

Land Acquisitions; Transfer of Excess Federal Real Property

AGENCY: Bureau of Indian Affairs, Interior.

ACTION: Notice of final agency determination.

SUMMARY: This notice provides notification of the Department of the Interior's final agency determination to acquire approximately 226.49 acres, more or less, of land into trust for the Cherokee Nation. This notice is published in the exercise of authority delegated by the Secretary of the Interior to the Assistant Secretary—Indian Affairs by 209 Department Manual 8.1.

FOR FURTHER INFORMATION CONTACT: Ms. Robin White, Bureau of Indian Affairs, Acting Chief, Division of Real Estate Services, 1849 C Street NW., MS 4642-MIB, Washington, DC 20240, telephone number (202) 208-1110.

SUPPLEMENTARY INFORMATION: On June 15, 1989, and on December 2, 1993, pursuant to authority contained in the Federal Property and Administrative Services Act of 1949, as amended by Public Law 93-599 dated January 2, 1975 (88 Stat. 1954), the below described property was transferred by the Local GSA Regional (7) Administrator of the General Services Administration without compensation or reimbursement to the Secretary of the Department of the Interior, to be held in trust for the benefit and use of the Cherokee Nation.

Description of the real property according to Bureau of Land Management Cadastral Survey Plat approved on April 24, 2007, known as Sequoyah High School (GSA Control No. 7-1-OK-542-A & 7-1-OK-542-B), is as follows:

Indian Meridian, Cherokee County, Oklahoma

Lots 5 and 6 less the West 1120 feet thereof in Section 19, Township 16 North, Range 22 East of the Indian Meridian, Cherokee County, Oklahoma, AND

The SE ¼ SW ¼; NW ¼ SE ¼; N ½ SW ¼ SE ¼ SE ¼; Lots 3, 5, 6 and 7 less that portion of the SW ¼ SW ¼ SW ¼ lying West of the blacktop road in Section 20, Township 16 North, Range 22 East of the Indian Meridian, Cherokee County, Oklahoma.

The SW ¼ NW ¼ NW ¼ in Section 29, Township 16 North, Range 22 East of the Indian Meridian, Cherokee County, Oklahoma.

The above described lands contain a total 226.49 acres, more or less, which is transferred subject to compliance with the provisions of the National Environmental Policy Act of 1969, as amended; Section 106 of the National Historic Preservation Act of 1966, as amended; Executive Order 11593, Protection and Enhancement of the Cultural Environment; Executive Orders 11988 and 11990, Subject: Floodplain Management and Protection of Wetlands; and other appropriate guidelines, valid rights, reservations, rights-of-way, easements of record, regulations, laws, and Executive Orders pertaining to the future use of this property.

This notice does not affect title to the land described above, nor does it affect any valid existing easements for public roads and highways, public utilities, railroads and pipelines, and any other rights-of-way or reservations of record.

Dated: January 21, 2015.
Kevin K. Washburn,
Assistant Secretary—Indian Affairs.

[FR Doc. 2015-01467 Filed 1-26-15; 8:45 am]

BILLING CODE 4310-W7-P